FEDERAL RESERVE SYSTEM

Sunshine Act Meeting

AGENCY HOLDING THE MEETING: Board of Governors of the Federal Reserve System Federal Register Citation of Previous Announcement: Unavailable.

PREVIOUSLY ANNOUNCED TIME AND DATE OF THE MEETING: 3 p.m., Wednesday, May 2, 2001.

Changes in the Meeting: The following open item has been moved to the Summary Agenda: (Because of its routine nature, no discussion of the item is anticipated. This matter will be voted on without discussion unless a member of the Board requests that the item be moved to the discussion item.)

Proposed final rule granting certain exemptions from section 23A of the Federal Reserve Act. (Proposed earlier for public comment; Docket Numbers R-1015 and R-1016)

CONTACT PERSON FOR MORE INFORMATION: Michelle A. Smith, Assistant to the Board; 202-452-3204.

SUPPLEMENTARY INFORMATION: You may call 202-452-3206 for a recorded announcement of this meeting; or you may contact the Board's Web site at http://www.federalreserve.gov for an electronic announcement. (The Web site also includes procedural and other information about the open meeting.)

Dated: April 25, 2001.
Jennifer J. Johnson,
Secretary of the Board.

[FR Doc. 01-10758 Filed 4-26-01; 10:18 am]

BILLING CODE 6210-01-P